DEPARTMENT OF HEALTH AND HUMAN SERVICES

National Institutes of Health

Proposed Collection; Comment Request; Evaluation of the NIDCD Minority and Disability Supplement Program

SUMMARY: In compliance with the requirement of section 350(6)(2)(A) of the Paperwork Reduction Act of 1993, for opportunity for public comment on proposed data collection projects, the National Institute on Deafness and Other Communication Disorders (NIDCD), the National Institutes of Health (NIH), will publish periodic summaries of proposed projects to be submitted to the Office of Management and Budget (OMB) for review an approval.

Proposed Collection:

Title: Evaluation of the Minority and Disability Supplement Program. Type of Information Request: New. Need and Use of Information Collection: The NIDCD was established to support biomedical and behavioral research and research training in hearing, smell, balance, taste, voice, speech and language. Although minorities and people with disabilities will soon dominate the work force, these groups are underrepresented in the professional fields of science and health. To encourage members of these groups to pursue careers in these fields, NIDCD provides opportunities for extramural grant recipients to mentor promising candidates. The proposed survey will collect information from participants in the Minority and Disability Supplement Program and will yield information about satisfaction of participants with the program and how participation may have lead to the pursuit of a career in the health field. Frequency of Response: One. Affected Public: Individuals. Type of Respondent: Minority individuals and individuals with disabilities who have previously participated in the Supplement Program. The annual reporting burden is as follows: Estimated Number of Respondents: 200. Estimated Number of Responses per Respondent: One. Average Burden Hours Per Response: 0.5; and Estimated Total Annual Burden Hours Requested: 100. The annualized cost to respondents is estimated at: $150. There are no Capital Costs to report. There are no Operating or Maintenance Costs to report.

Type of respondents | Estimated number of respondents | Estimated number of responses per respondent | Average burden hours per response | Estimated total annual burden hours requested
Survey of Participant | 200 | 1 | 0.5 | 100
Total | 200 |  |  | 100

Request for Comment:

Written comments and/or suggestions are invited from the public and affected agencies on one or more of the following points: (1) Whether the proposed collection of information is necessary for fulfillment of the Minority and Disability Supplement Grants Program, including whether the information will be useful; (2) the accuracy of the estimate of the burden of the proposed data collection, including the validity of the methodology; (3) ways to enhance the quality, utility, and clarity of the data collection; and (4) ways to minimize the burden of the collection of information on the respondents, including appropriate use of automated collection techniques and information technology.

FOR FURTHER INFORMATION CONTACT: To request more information on the proposed survey and intent to collect data, or to obtain a copy of the design of the collection, contact Judith A. Cooper, Ph.D., Chief, Scientific Programs Branch, NIDCD, NIH, 6120 Executive Blvd., EPS 400-C, MSC 7180, Bethesda, MD 20892, or call non toll-free number (301) 496-5061, or E-mail your request, including your address to: judith_cooper@nih.gov

Comments Due Date:

Comments regarding this information collection are best assured of having their full effect if received on or before March 27, 2001.

SUPPLEMENTARY INFORMATION: Under the PRA (44 U.S.C. 3501-3520), Federal agencies must obtain approval from the Office of Management and Budget (OMB) for each collection of information they conduct or sponsor. “Collection of information” is defined in 44 U.S.C. 3502(3) and 4 CFR 1320.3(c) and includes agency requests or requirements that the public submit reports, keep records, or provide information to a third party. Section 3506(c)(2)(A) of the PRA requires federal agencies to provide a 60-day notice in the Federal Register concerning proposed collections of information before submitting the collection to OMB for approval. To comply with this requirement, NIDCD is publishing notice of the proposed collection of information listed below.

The NIDCD Minority and Disability Supplement Program was designed to encourage individuals underrepresented in biomedical and behavioral research in human communication to participate in that research. The individuals participate on currently funded NIDCD grants and receive mentoring from NIDCD Principal Investigators.

Anecdotal feedback indicates that program participants and mentors find the program provides interesting opportunities and encourages individuals to pursue careers in a variety of health fields. However, there is little systematic evidence evaluating the level of the Program's success or failure in accomplishing these goals. The proposed survey will attempt to assess how individuals' participation in the Supplement Program has influenced career and educational choices. This information will provide support for NIDCD's continued participation in the Program.

One survey has been proposed to collect information on the current status of individuals previously supported by an NIDCD Supplement. This survey will obtain the current contact information of the participants and assess the individuals' educational and career achievements, their goals for future education, and current specific field(s) of study/employment.

The survey will be administered via a telephone interview that should take approximately 30 minutes to complete. Respondents who cannot schedule 30 minutes of time or who find telephone conversations difficult will be given the opportunity to respond by alternate means such as mail, fax, and e-mail. All participants from the inception of the program will be included in this survey process. It is anticipated that the total number of participants will not exceed 200.

Dated: January 17, 2001.
David Kerr,
Executive Officer, NIDCD.

[FR Doc. 01-2328 Filed 1-25-01; 8:45 am]

BILLING CODE 4140-01-M